DEPARTMENT OF COMMERCE

National Oceanic and Atmospheric Administration

[I.D. 040207A]

Endangered Species; File No. 1580

AGENCY: National Marine Fisheries Service (NMFS), National Oceanic and Atmospheric Administration (NOAA), Commerce.

ACTION: Issuance of permit.

SUMMARY: Notice is hereby given that Dynegy Northeast Generations, Inc. (Dynegy), 992-994 River Road, Newburgh, New York 12550, has been issued a permit to take shortnose sturgeon (Acipenser brevirostrum) for purposes of scientific research.

ADDRESSES: The permit and related documents are available for review upon written request or by appointment in the following offices:

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9300; fax (978)281-9394.

FOR FURTHER INFORMATION CONTACT: Brandy Hutnak or Malcolm Mohead, (301)713-2289.

SUPPLEMENTARY INFORMATION: On September 6, 2006, notice was published in the Federal Register (71 FR 52534) that a request for a scientific research permit to take shortnose sturgeon had been submitted by the above-named organization. The requested permit has been issued under the authority of the Endangered Species Act of 1973, as amended (ESA; 16 U.S.C. 1531 et seq.) and the regulations governing the taking, importing, and exporting of endangered and threatened species (50 CFR parts 222-226).

This permit authorizes Dynegy to annually capture up to 82 juvenile and adult shortnose sturgeon and 40 shortnose sturgeon larvae. Researchers are authorized to capture, handle, measure, weigh, scan for tags, Passive Integrated Transponder (PIT) and Carlin tag, photograph, tissue sample, and release up to 82 juvenile and adult sturgeon. Additionally, researchers may lethally take up to 40 shortnose sturgeon larvae. This research will help to evaluate the life history, population trends, and spatial, temporal, and size distribution of the shortnose sturgeon collected in the Hudson River during an annual Biological Monitoring Program.

Issuance of this permit, as required by the ESA, was based on a finding that such permit (1) was applied for in good faith, (2) will not operate to the disadvantage of such endangered or threatened species, and (3) is consistent with the purposes and policies set forth in section 2 of the ESA.

Dated: April 2, 2007.
P. Michael Payne,
Chief, Permits, Conservation and Education Division, Office of Protected Resources, National Marine Fisheries Service.

[FR Doc. E7-6486 Filed 4-5-07; 8:45 am]

BILLING CODE 3510-22-S